DEPARTMENT OF ENERGY

Federal Energy Regulatory Commission

[Docket No. RP00-426-018]

Texas Gas Transmission, LLC; Notice of Filing of Negotiated Rate Agreement

January 16, 2004.

Take notice that on January 7, 2004, Texas Gas Transmission, LLC (Texas Gas), submitted for filing an addendum to a negotiated rate agreement with Tennessee Valley Authority (TVA).

Texas Gas states that the purpose of this filing is to submit an addendum to the TVA negotiated rate agreement, which corrects an erroneously referenced loan contract number. Both Texas Gas and TVA accepted and agreed to the addendum, thereby acknowledging the correction and upholding all other provisions of the October 21, 2003, negotiated rate agreement.

Texas Gas states that copies of this filing are being mailed to all parties on the official service list in this docket, to Texas Gas's official service list, to Texas Gas's jurisdictional customers, and to interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E4-108 Filed 1-23-04; 8:45 am]

BILLING CODE 6717-01-P